DEPARTMENT OF COMMERCE

International Trade Administration

[A-570-900]

Diamond Sawblades and Parts Thereof From the People's Republic of China: Preliminary Results of Antidumping Duty Administrative Review and Preliminary Determination of No Shipments; 2019-2020

AGENCY: Enforcement and Compliance, International Trade Administration, Department of Commerce.

SUMMARY: The Department of Commerce (Commerce) preliminarily finds that certain producers and/or exporters made sales of diamond sawblades and parts thereof (diamond sawblades) at less than normal value during the period of review (POR) November 1, 2019, through October 31, 2020. Interested parties are invited to comment on these preliminary results of review.

DATES: Applicable August 2, 2021.

FOR FURTHER INFORMATION CONTACT: Allison Hollander, AD/CVD Operations, Office I, Enforcement and Compliance, International Trade Administration, U.S. Department of Commerce, 1401 Constitution Avenue NW, Washington, DC 20230; telephone: (202) 482-2805.

SUPPLEMENTARY INFORMATION:

Background

On November 4, 2009, we published in the Federal Register an antidumping duty order on diamond sawblades from the Peoples' Republic of China (China).¹ On November 3, 2020, we published in the Federal Register a notice of opportunity to request an administrative review of the Order.² On January 6, 2021, based on timely requests for an administrative review, Commerce initiated the administrative review of the antidumping duty order on diamond sawblades.³ The administrative review covers 53 companies, which is inclusive of the two mandatory respondents, Jiangsu Fengtai Single Entity (Jiangsu Fengtai) and Zhejiang Wanli Tool Group Co., Ltd. (Zhejiang Wanli).⁴

¹ See Diamond Sawblades and Parts Thereof from the People's Republic of China and the Republic of Korea: Antidumping Duty Orders, 74 FR 57145 (November 4, 2009) (Order).

² See Antidumping or Countervailing Duty Order, Finding, or Suspended Investigation; Opportunity To Request Administrative Review, 85 FR 69586 (November 3, 2020).

³ See Initiation of Antidumping and Countervailing Duty Administrative Reviews, 86 FR 511 (January 6, 2021).

⁴ See Memorandum, “Antidumping Duty Administrative Review of Diamond Sawblades and Parts Thereof from the People's Republic of China Administrative Review 2019-2020: Respondent Selection,” dated March 2, 2021.

Scope of the Order

The products covered by this Order are diamond sawblades. A full description of the scope of the Order is contained in the Preliminary Decision Memorandum.⁵

⁵ See Memorandum, “Diamond Sawblades and Parts Thereof from the People's Republic of China: Decision Memorandum for the Preliminary Results of Antidumping Duty Administrative Review and Preliminary Determination of No Shipments; 2019-2020,” dated concurrently with, and hereby adopted by, this notice (Preliminary Decision Memorandum).

Preliminary Determination of No Shipments

Six companies that received a separate rate in previous segments of the proceeding and are subject to this review reported that they did not have any exports of subject merchandise during the POR.⁶ To date, we have found no evidence calling into question the no-shipment claims made by four of these companies; ⁷ therefore, we preliminarily find that these four companies had no shipments of subject merchandise to the United States during the POR. For two of the six companies, because CBP data indicated entries during the POR, we requested entry documentation from CBP.⁸ Based on information on the record, we preliminarily find that Husqvarna (Hebei) Co., Ltd. (Husqvarna) had entries of subject merchandise during the POR. Therefore, because it did not file a separate rate application or separate rate certification (SRC), we are preliminarily considering Husqvarna to be part of the China-wide entity. We additionally find, based on information on the record, that Weihai Xiangguang Mechanical Industrial Co., Ltd. (Weihai Xiangguang) did not have entries of subject merchandise during the POR. Therefore, we preliminarily find that Weihai Xiangguang had no shipments of subject merchandise to the United States during the POR. For additional information regarding these preliminary determinations, see the Preliminary Decision Memorandum.

⁶ See Bosun Tools Co., Ltd.'s Letter, “Diamond Sawblades from the People's Republic of China—No Sales Certification,” dated February 5, 2021; Chengdu Huifeng New Material Technology Co., Ltd.'s Letter, “Diamond Sawblades and Parts Thereof from the People's Republic of China: Submission of Statement of No Shipments,” dated February 4, 2021; Danyang Weiwang Tools Manufacturing Co., Ltd.'s Letter, “Diamond Sawblades and Parts Thereof from the People's Republic of China: Submission of Statement of No Shipments,” dated January 20, 2021; Husqvarna (Hebei) Co., Ltd.'s and Husqvarna Construction Products North America's Letter, “Diamond Sawblades from the People's Republic of China: Notification of No Shipments,” dated January 12, 2021; Weihai Xiangguang Mechanical Industrial Co., Ltd.'s Letter, “No Shipment Letter for Weihai Xiangguang Mechanical Industrial Co., Ltd.: Diamond Sawblades and Parts Thereof from the People's Republic of China,” dated February 12, 2021; and, Wuhan Wanbang Laser Diamond Tools Co., Ltd.'s Letter, “Diamond Sawblades and Parts Thereof from the People's Republic of China: Submission of Statement of No Shipments,” dated January 18, 2021.

⁷ See Memorandum, “No shipment inquiry with respect to the companies below during the period 11/01/2019 through 10/31/2020,” dated March 25, 2021; see also Memorandum, “Diamond Sawblades and Parts Thereof from the People's Republic of China; No Shipment Inquiry for Wuhan Wanbang Laser Diamond Tools Co., Ltd. during the period 11/01/2019 through 10/31/2020,” dated May 25, 2021.

⁸ See Memorandum, “Notification of Receipt of U.S. Entry Documents,” dated April 1, 2021 at Attachment 1; see also Commerce's Letter placing entry documentation on the record, dated June 25, 2021.

Separate Rates

Commerce preliminarily determines that one respondent is eligible to receive a separate rate in this review.⁹

⁹ See Preliminary Decision Memorandum at 6-7.

Separate Rates for Eligible Non-Selected Respondents

Consistent with our practice, because we preliminarily denied the separate rate eligibility for the two respondents selected for individual examination, Jiangsu Fengtai and Zhejiang Wanli, and treated them as part of the China-wide entity, we preliminarily applied to the non-selected respondent the separate rate assigned to eligible respondents in the last completed administrative review, which is 0.00 percent.¹⁰

¹⁰ See Preliminary Decision Memorandum at 7.

China-Wide Entity

Under Commerce's policy regarding the conditional review of the China-wide entity,¹¹ the China-wide entity will not be under review unless a party specifically requests, or Commerce self-initiates, a review of the entity. Because no party requested a review of the China-wide entity in this review, the entity is not under review, and the entity's rate (i.e., 82.05 percent) is not subject to change.¹² Aside from the no-shipment and separate rate companies discussed above, Commerce considers all other companies for which a review was requested (which did not file a separate rate application) listed in Appendix II to this notice, to be part of the China-wide entity.¹³ Additionally, as discussed above, because we denied separate rate eligibility for Jiangsu Fengtai and Zhejiang Wanli, these two companies are also part of the China-wide entity.

¹¹ See Antidumping Proceedings: Announcement of Change in Department Practice for Respondent Selection in Antidumping Duty Proceedings and Conditional Review of the Nonmarket Economy Entity in NME Antidumping Duty Proceedings, 78 FR 65963 (November 4, 2013).

¹² See, e.g., Diamond Sawblades and Parts Thereof from the People's Republic of China; Final Results of Antidumping Duty Administrative Review; 2012-2013, 80 FR 32344, 32345 (June 8, 2015).

¹³ See Initiation of Antidumping and Countervailing Duty Administrative Reviews, 83 FR 1329, 1331-32 (January 11, 2018) (“All firms listed below that wish to qualify for separate rate status in the administrative reviews involving NME countries must complete, as appropriate, either a separate rate application or certification, as described below.”). See Appendix II for the list of companies that are subject to this administrative review that are considered to be part of the China-wide entity.

Methodology

Commerce is conducting this review in accordance with section 751(a)(1)(B) of the Tariff Act of 1930, as amended (the Act).

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in the Central Records Unit, Room B8024 of the main Commerce building. In addition, a complete version of the Preliminary Decision Memorandum can be found at http://enforcement.trade.gov/frn/. A list of the topics discussed in the Preliminary Decision Memorandum is attached as an appendix to this notice.

Preliminary Results of the Administrative Review

Commerce preliminarily determines that the following weighted-average dumping margin exists for the administrative review covering the period November 1, 2019, through October 31, 2020:

Exporters: Separate rate applicable to the following non-selected companies | Weighted- average dumping margin (percent)
Xiamen ZL Diamond Technology Co., Ltd | 0.00

Disclosure

Normally, Commerce discloses to interested parties the calculations performed in connection with the preliminary results of a review within five days of any public announcement or, if there is no public announcement, within five days of the date of publication of the notice of preliminary results in the Federal Register, in accordance with 19 CFR 351.224(b). However, because Commerce preliminarily denied the separate rate eligibility for the two respondents selected for individual examination and treated them as part of the China-wide entity, there are no calculations to disclose.

Public Comment

Pursuant to 19 CFR 351.309(c)(ii), interested parties may submit case briefs no later than 30 days after the date of publication of this notice.¹⁴ Rebuttal briefs, limited to issues raised in the case briefs, may be filed no later than seven days after the date for filing case briefs.¹⁵ Commerce has modified certain of its requirements for serving documents containing business proprietary information until further notice.¹⁶ Parties who submit case briefs or rebuttal briefs in this proceeding are encouraged to submit with each argument: (1) A statement of the issue; (2) a brief summary of the argument; and (3) a table of authorities.¹⁷

¹⁴ See 19 CFR 351.309(c).

¹⁵ See 19 CFR 351.309(d).

¹⁶ See Temporary Rule Modifying AD/CVD Service Requirements Due to COVID-19; Extension of Effective Period, 85 FR 41363 (July 10, 2020).

¹⁷ See 19 CFR 351.309(c)(2) and (d)(2) and 19 CFR 351.303 (for general filing requirements).

Pursuant to 19 CFR 351.310(c), interested parties who wish to request a hearing must submit a written request to the Assistant Secretary for Enforcement and Compliance, filed electronically using ACCESS. Requests should contain: (1) The party's name, address, and telephone number; (2) the number of participants; and (3) a list of issues to be discussed. Issues raised in the hearing will be limited to those raised in the respective case briefs. If a request for a hearing is made, Commerce intends to hold the hearing at a time and date to be determined. An electronically filed document must be received successfully in its entirety by ACCESS by 5:00 p.m. Eastern Time within 30 days after the date of publication of this notice.¹⁸

¹⁸ See 19 CFR 351.310(c).

Unless the deadline is extended, Commerce intends to issue the final results of these reviews, including the results of its analysis of the issues raised in any written briefs, no later than 120 days after the date of publication of this notice, pursuant to section 751(a)(3)(A) of the Act and 19 CFR 351.213(h).

Assessment Rates

Upon issuing the final results, Commerce will determine, and U.S. Customs and Border Protection (CBP) shall assess, antidumping duties on all appropriate entries covered by this review.¹⁹ If the preliminary results are unchanged for the final results, we will instruct CBP to apply an ad valorem assessment rate of 82.05 percent to all entries of subject merchandise during the POR which were exported by the companies listed in Appendix II of this notice and an ad valorem assessment rate of 0.00 percent to all entries of subject merchandise during the POR which were exported by the non-selected respondent eligible for a separate rate, listed above, Xiamen ZL. If Commerce determines that an exporter under review had no shipments of the subject merchandise, any suspended entries that entered under that exporter's case number (i.e., at that exporter's rate) will be liquidated at the China-wide rate.²⁰

¹⁹ See 19 CFR 351.212(b)(1).

²⁰ See Non-Market Economy Antidumping Proceedings: Assessment of Antidumping Duties, 76 FR 65694, 65695 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) For the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification to Interested Parties

Commerce is issuing and publishing the preliminary results of this review in accordance with sections 751(a)(1)(B), 751(a)(3) and 777(i) of the Act, and 19 CFR 351.213 and 351.221(b)(4).

Dated: July 26, 2021.
Christian Marsh,
Acting Assistant Secretary for Enforcement and Compliance.

Appendix I—List of Topics Discussed in the Preliminary Decision Memorandum

I. Summary

II. Background

III. Scope of the Order

IV. Preliminary Determination of No Shipments

V. Discussion of the Methodology

VI. Recommendation

Appendix II

Companies that are subject to this administrative review that are considered to be part of the China-wide entity are:

ASHINE Diamond Tools Co., Ltd.

Danyang City Ou Di Ma Tools Co., Ltd.

Danyang Hantronic Import & Export Co., Ltd.

Danyang Huachang Diamond Tools Manufacturing Co., Ltd.

Danyang Like Tools Manufacturing Co., Ltd.

Danyang NYCL Tools Manufacturing Co., Ltd.

Danyang Tongyu Tools Co., Ltd.

Danyang Tsunda Diamond Tools Co., Ltd.

Diamond Tools Technology (Thailand) Co., Ltd.

Fujian Quanzhou Aotu Precise Machine Co., Ltd.

Guilin Tebon Superhard Material Co., Ltd.

Hangzhou Deer King Industrial and Trading Co., Ltd.

Hangzhou Kingburg Import & Export Co., Ltd.

Hebei XMF Tools Group Co., Ltd.

Henan Huanghe Whirlwind Co., Ltd.

Henan Huanghe Whirlwind International Co., Ltd.

Hong Kong Hao Xin International Group Limited

Hubei Changjiang Precision Engineering Materials Technology Co., Ltd.

Hubei Sheng Bai Rui Diamond Tools Co., Ltd.

Husqvarna (Hebei) Co., Ltd.

Huzhou Gu's Import & Export Co., Ltd.

Jiangsu Fengtai Single Entity *

Jiangsu Huachang Diamond Tools Manufacturing Co., Ltd.

Jiangsu Inter-China Group Corporation

Jiangsu Yaofeng Tools Co., Ltd.

Jiangsu Youhe Tool Manufacturer Co., Ltd.

Orient Gain International Limited

Pantos Logistics (HK) Company Limited

Protec Tools Co., Ltd.

Pujiang Talent Diamond Tools Co., Ltd.

Qingdao Hyosung Diamond Tools Co., Ltd.

Qingdao Shinhan Diamond Industrial Co., Ltd.

Qingyuan Shangtai Diamond Tools Co., Ltd.

Quanzhou Sunny Superhard Tools Co., Ltd.

Quanzhou Zhongzhi Diamond Tool Co., Ltd.

Rizhao Hein Saw Co., Ltd.

Saint-Gobain Abrasives (Shanghai) Co., Ltd.

Shanghai Jingquan Industrial Trade Co., Ltd.

Shanghai Starcraft Tools Co. Ltd.

Shanghai Vinon Tools Industrial Co.

Sino Tools Co., Ltd.

Wuhan Baiyi Diamond Tools Co., Ltd.

Wuhan Sadia Trading Co., Ltd.

Wuhan ZhaoHua Technology Co., Ltd.

Zhejiang Wanli Tool Group Co., Ltd. *

* Selected as mandatory respondents, these companies were found to be part of the China-wide entity in the instant review.

ZL Diamond Technology Co., Ltd.

ZL Diamond Tools Co., Ltd.

[FR Doc. 2021-16418 Filed 7-30-21; 8:45 am]

BILLING CODE 3510-DS-P